DEPARTMENT OF JUSTICE

Drug Enforcement Administration

[Docket No. 06-11]

Budget Drug and Wellness Center; Declaratory Order Terminating Registration

On August 24, 2005, I, the Deputy Administrator of the Drug Enforcement Administration, issued an Order to Show Cause to Budget Drug and Wellness Center (Respondent), of Feasterville, Pennsylvania.¹ The Show Cause Order proposed the revocation of Respondent's DEA Certificate of Registration, BB5209223, which authorizes it to dispense controlled substances as a retail pharmacy, and the denial of any pending applications to renew or modify its registration, on the ground that it had committed acts which render its registration inconsistent with the public interest. ALJ Ex. 1.

¹ Upon the commencement of the proceeding, I also immediately suspended Respondent's registration. On April 12, 2006, the suspension order was withdrawn.

As grounds for the proceeding, the Show Cause Order alleged, inter alia, that Respondent had violated its corresponding responsibility under Federal law by filling prescriptions which were not issued for a legitimate medical purpose by a practitioner acting in the usual course of professional practice. Id. More specifically, the Order alleged that Respondent had “acquired over 15 million dosage units of” such drugs as Didrex and phentermine, which are schedule III and IV controlled substances respectively, and that Respondent was dispensing “huge amounts of dosage units to persons who” obtained prescriptions through the Internet and “who [were] never actually seen or examined by a physician.” Id. at 8.

Respondent timely requested a hearing. The matter was placed on the docket of the Agency's Administrative Law Judges (ALJ), and a hearing was held on March 27 through 29, 2006, at which both parties elicited the testimony of witnesses and introduced various documents into evidence. Following the hearing, both parties submitted briefs containing their proposed findings of fact, conclusions of law, and argument. Moreover, on October 11, 2007, the ALJ invited the parties to submit additional briefs in light of my decision in United Prescription Services, Inc., 72 FR 50397 (2007); both parties did so.

Thereafter, on March 10, 2008, the ALJ issued her recommended decision. In her decision, the ALJ found that Respondent and its owner had repeatedly violated Federal law by filling prescriptions for controlled substances which it had reason to know were unlawful. ALJ at 64-69. The ALJ also found that Respondent's owner had failed to accept responsibility for her misconduct. Id. at 70. The ALJ thus concluded that “Respondent's continued registration would be inconsistent with the public interest,” and recommended that I revoke its registration and deny any pending applications. Id.

On May 2, 2008, Respondent filed exceptions to the ALJ decision. Shortly thereafter, the record was forwarded to me for final agency action.

During the course of reviewing the record, my office determined that on August 12, 2008, Respondent had been acquired by Walgreens. On the same day, Respondent also surrendered its registration certificate, as well as its order forms (DEA Form 222), to the Agency's Philadelphia Field Division Office. Letter of Charlotte J. Lopacki, R.Ph., to DEA Philadelphia Field Div. Office (August 12, 2008). There is, however, no evidence that Respondent completed a voluntary surrender form.

Based on these acts, I find that Respondent has discontinued business. Under 21 CFR 1301.52(a), “the registration of any person shall terminate if and when such person * * * discontinues business or professional practice.” Accordingly, I will declare that Respondent's registration has terminated with an effective date of August 12, 2008. And because there are no pending applications before the Agency, I further hold that the Show Cause proceeding is now moot.²

² While I have raised the issue of Respondent's registration status sua sponte, in the event Respondent seeks to refute the factual basis upon which I rely, it may do so by filing a motion for reconsideration within fifteen days of the date of service of this Order, which shall begin on the date the Order is mailed.

Order

Pursuant to the authority vested in me under 5 U.S.C. 554(e), as well as 28 CFR 0.100(b) & 0.104, I hereby declare terminated as of August 12, 2008, DEA Certificate of Registration, BB5209223, issued to Budget Pharmacy and Wellness Center, of Feasterville, Pennsylvania. Pursuant to the authority vested in me by 21 U.S.C. 823(f) & 824(a), as well as 28 CFR 0.100(b) & 0.104, I further order that the Order to Show Cause issued to Budget Pharmacy and Wellness Center be, and it hereby is, dismissed. This Order is effective immediately.

Dated: April 3, 2009.
Michele M. Leonhart,
Deputy Administrator.

[FR Doc. E9-8617 Filed 4-14-09; 8:45 am]

BILLING CODE 4410-09-P